DEPARTMENT OF COMMERCE

International Trade Administration

Texas A&M Research Foundation; Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 a.m. and 5 p.m. in Suite 4100W, U.S. Department of Commerce, Franklin Court Building, 1099 14th Street, NW., Washington, DC.

Docket Number: 04-019.

Applicant: Texas A&M Research Foundation.

Instrument: Scanning Hall Probe Microscope.

Manufacturer: NanoMagnetics Instruments, Ltd., The United Kingdom.

Intended Use: See notice at 69 FR 62435, October 26, 2004.

Comments: None received.

Decision: Approved. No instrument of equivalent scientific value to the foreign instrument, for such purposes as it is intended to be used, is being manufactured in the United States.

Reasons: The foreign instrument provides: characterization of micron and submicron scale magnetic structures under changing magnetic fields and temperatures with operability to 7T and to 2K.

A domestic manufacturer of similar equipment advises that (1) these capabilities are pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. E4-3202 Filed 11-16-04; 8:45 am]

BILLING CODE 3510-P